DEPARTMENT OF TRANSPORTATION

Federal Aviation Administration

14 CFR Part 39

[Docket No. FAA-2005-21204; Directorate Identifier 2005-NM-078-AD; Amendment 39-14087; AD 2005-10-10]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is adopting a new airworthiness directive (AD) for certain Bombardier Model CL-600-2B19 (Regional Jet Series 100 & 440) airplanes. This AD requires revising the Airworthiness Limitations section of the Instructions for Continued Airworthiness of the Canadair Regional Jet Maintenance Requirements Manual by incorporating new repetitive detailed inspections of the secondary load path indicator for the horizontal stabilizer trim actuator (HSTA). This AD is prompted by a report of a potential failure of the horizontal stabilizer trim actuator (HSTA) secondary nut in conjunction with a latent failure of the HSTA primary load path discovered during sampling program activities. We are issuing this AD to detect and correct latent failure of the primary load path of the HSTA, which, in conjunction with a failure of the HSTA secondary nut, could result in loss of horizontal trim control and consequent reduced controllability of the airplane.

DATES: Effective June 1, 2005.

The incorporation by reference of a certain publication listed in the AD is approved by the Director of the Federal Register as of June 1, 2005.

We must receive comments on this AD by July 18, 2005.

ADDRESSES: Use one of the following addresses to submit comments on this AD.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Bombardier, Inc., Canadair, Aerospace Group, P.O. Box 6087, Station Centreville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2005-21204; the directorate identifier for this docket is 2005-NM-078-AD.

Examining the Docket

You can examine the AD docket on the Internet at http://www.dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

FOR FURTHER INFORMATION CONTACT: Daniel Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION: Transport Canada Civil Aviation, which is the airworthiness authority for Canada, notified the FAA that an unsafe condition may exist on certain Bombardier Model CL-600-2B19 (Regional Jet Series 100 & 440) airplanes. TCCA advises that a potential for failure of the secondary nut of the horizontal stabilizer trim actuator (HSTA), in conjunction with a latent failure of the HSTA primary load path, was discovered during HSTA sampling program activities. Failure of the HSTA secondary nut, in conjunction with a latent failure of the HSTA primary load path, if not corrected, could result in loss of horizontal trim control and consequent reduced controllability of the airplane.

Relevant Service Information

Bombardier has issued Canadair Regional Jet Temporary Revision 2A-8, dated December 10, 2003, to the Canadair Regional Jet Maintenance Requirements Manual (MRM), CSP A-053, Appendix A, “Certification Maintenance Requirements.” This temporary revision incorporates Task C27-42-103-01, “Detailed Inspection of the HSTA Secondary Load Path Indicator,” into the MRM. TCCA mandated the temporary revision and issued Canadian airworthiness directive CF-2005-04, dated February 14, 2005, to ensure the continued airworthiness of these airplanes in Canada.

FAA's Determination and Requirements of This AD

This airplane model is manufactured in Canada and is type certificated for operation in the United States under the provisions of § 21.29 of the Federal Aviation Regulations (14 CFR 21.29) and the applicable bilateral airworthiness agreement. Pursuant to this bilateral airworthiness agreement, the TCCA has kept the FAA informed of the situation described above. We have examined the TCCA's findings, evaluated all pertinent information, and determined that we need to issue an AD for products of this type design that are certificated for operation in the United States.

Therefore, we are issuing this AD to require revising the Airworthiness Limitations section of the Instructions for Continued Airworthiness of the Canadair Regional Jet MRM by incorporating new repetitive detailed inspections of the HSTA secondary load path indicator. This AD requires incorporating the actions specified in the temporary revision described previously into the Canadair Regional Jet MRM, except as discussed under “Difference Between the AD and Canadian Airworthiness Directive.”

Difference Between the AD and Canadian Airworthiness Directive

The Canadian airworthiness directive gives operators credit for previously accomplished initial inspections of the HSTA secondary load path indicator done in accordance with Bombardier Alert Service Bulletin A601R-27-128, dated February 17, 2003; or Revision A, dated April 17, 2003. This AD also gives operators credit for initial inspections done before the effective date of this AD in accordance with Revision B of Bombardier Alert Service Bulletin A601R-27-128, dated March 2, 2005, which was issued after the Canadian airworthiness directive was issued. This difference has been coordinated with TCCA.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed under ADDRESSES. Include “Docket No. FAA-2005-21204; Directorate Identifier 2005-NM-078-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-10-10 Bombardier, Inc. (Formerly Canadair): Amendment 39-14087. Docket No. FAA-2005-21204; Directorate Identifier 2005-NM-078-AD.

Effective Date

(a) This AD becomes effective June 1, 2005.

Affected ADs

(b) None.

Applicability

(c) This AD applies to Bombardier Model CL-600-2B19 (Regional Jet Series 100 & 440) airplanes, certificated in any category, having serial numbers 7003 and subsequent.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529.

Unsafe Condition

(d) This AD is prompted by a report of a potential failure of the horizontal stabilizer trim actuator (HSTA) secondary nut in conjunction with a latent failure of the HSTA primary load path discovered during sampling program activities. We are issuing this AD to detect and correct latent failure of the primary load path of the HSTA, which, in conjunction with a failure of the HSTA secondary nut, could result in loss of horizontal trim control and consequent reduced controllability of the airplane.

Compliance

(e) You are responsible for having the actions required by this AD performed within the compliance times specified, unless the actions have already been done.

Revision to the Airworthiness Limitations (AWL) Section

(f) Within 30 days after the effective date of this AD: Revise the AWL section of the Instructions for Continued Airworthiness of the Canadair Regional Jet Maintenance Requirements Manual (MRM), CSP A-053, Appendix A, “Certification Maintenance Requirements,” by incorporating Task C27-42-103-01, “Detailed Inspection of the HSTA Secondary Load Path Indicator” of Canadair Regional Jet Temporary Revision 2A-8, dated December 10, 2003, into the AWL section. Thereafter, except as provided by paragraph (j) of this AD, no alternative structural inspection intervals may be approved for this HSTA secondary load path indicator.

(g) When the information in Canadair Regional Jet Temporary Revision 2A-8, dated December 10, 2003, is included in the general revisions of the MRM, the general revisions may be inserted into the AWL section of the Instructions for Continued Airworthiness and this temporary revision may be removed from the MRM.

Initial Inspection Phase-In Schedule

(h) Prior to accumulating 5,000 total flight hours on the HSTA or within 500 flight hours after the effective date of this AD, whichever occurs later: Do the initial inspection of the HSTA secondary load path indicator according to the task specified in paragraph (f) of this AD.

Initial Inspections According to Bombardier Service Bulletin A601R-27-128

(i) Inspections of the HSTA secondary load path indicator accomplished before the effective date of this AD in accordance with Bombardier Alert Service Bulletin A601R-27-128, dated February 17, 2003; Revision A, dated April 17, 2003; or Revision B, dated March 2, 2005; are acceptable for compliance with the initial inspection requirement of paragraph (h) of this AD.

Alternative Methods of Compliance (AMOCs)

(j) The Manager, New York Aircraft Certification Office, FAA, has the authority to approve AMOCs for this AD, if requested in accordance with the procedures found in 14 CFR 39.19.

Related Information

(k) Canadian airworthiness directive CF-2005-04, dated February 14, 2005, also addresses the subject of this AD.

Material Incorporated by Reference

(l) You must use Canadair Regional Jet Temporary Revision 2A-8, dated December 10, 2003, to the Canadair Regional Jet Maintenance Requirements Manual, CSP A-053, Appendix A, “Certification Maintenance Requirements,” to perform the actions that are required by this AD, unless the AD specifies otherwise. The Director of the Federal Register approves the incorporation by reference of this document in accordance with 5 U.S.C. 552(a) and 1 CFR part 51. To get copies of the service information, contact Bombardier, Inc., Canadair, Aerospace Group, P.O. Box 6087, Station Centreville, Montreal, Quebec H3C 3G9, Canada. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on May 5, 2005.
Ali Bahrami,
Manager, Transport Airplane Directorate, Aircraft Certification Service.

[FR Doc. 05-9553 Filed 5-16-05; 8:45 am]

BILLING CODE 4910-13-P067